DEPARTMENT OF TRANSPORTATION

Office of the Secretary

14 CFR Parts 217, 241 and 298

[Docket No. OST-00-7735]

RIN 2139-AA07

Amendment to the Definitions of Revenue and Nonrevenue Passengers

AGENCY: Office of the Secretary, DOT.

ACTION: Notice of proposed rulemaking.

SUMMARY: The Office of the Secretary proposes to revise its definitions of revenue passenger and nonrevenue passenger in 14 CFR 241.03 to specify that a passenger traveling on a ticket or voucher received as compensation for denied boarding or as settlement of a consumer complaint is considered to be a revenue passenger. The revised definitions will be added to 14 CFR parts 217 and 298. The definitions will be in harmony with the definitions of revenue and non revenue passenger adopted by the International Civil Aviation Organization (ICAO). Harmonizing of DOT's and ICAO's definitions will prevent air carriers from being required to keep two sets of traffic enplanement statistics—one for reporting to ICAO and one for reporting to DOT. This action is taken at DOT's initiative.

DATES: Comments are due October 23, 2000.

ADDRESSES: Comments should be directed to the Docket Clerk, Docket OST-00-7735, Room PL 401, Office of the Secretary, Department of Transportation, 400 Seventh Street, SW., Washington, DC 20590-0001. The public can inspect the docket at the Department from 10 AM to 5 PM ET, Monday through Friday, except Federal Holidays, or via the internet on http://dms.dot.gov.

Comments should identify the regulatory docket number and be submitted in duplicate to the address listed above. Commenters wishing the Department to acknowledge receipt of their comments must submit with those comments a self-addressed stamped postcard on which the following statement is made: Comments on Docket OST-00-7735. The postcard will be dated/time stamped and returned to the commenter. All comments submitted will be available for examination in the Rules Docket both before and after the closing date for comments.

FOR FURTHER INFORMATION CONTACT: Bernard Stankus or Clay Moritz, Office of Airline Information, K-25, Bureau of Transportation Statistics, Department of Transportation, 400 Seventh Street, SW., Washington, DC, 20590-0001, (202) 366-4387 or 366-4385, respectively.

SUPPLEMENTARY INFORMATION:

Definition in Title 14 CFR Section 241.03

Passenger, nonrevenue and passenger, revenue are defined in 14 CFR section 241.03 as follows:

Passenger, nonrevenue. Person receiving air transportation from the air carrier for which remuneration is not received by the air carrier. Air carrier employees or others receiving air transportation against whom token service charges are levied are considered nonrevenue passengers. Infants for whom a token fare is charged are not counted as passengers.

Passenger, revenue. Person receiving air transportation from the air carrier for which remuneration is received by the air carrier. Air carrier employees or others receiving air transportation against whom token service charges are levied are considered nonrevenue passengers. Infants for whom a token fare is charged are not counted as passengers.

Accounting and Reporting Directive #134

On January 18, 1990, DOT issued Accounting and Reporting Directive #134, to provide detailed guidance on the definition of revenue passengers. Specifically, the directive stated that passengers traveling on frequent flyer program awards, barter tickets, and reduced-fare tickets that cost more than nominal service charges are considered to be revenue passengers. Persons receiving transportation as compensation after filing a complaint or claim against the air carrier, including ticket compensation furnished in compliance with 14 CFR part 250 Oversales were considered to be nonrevenue passengers. The definition of revenue passenger expressly distinguished between token service charges, on one hand, and remuneration on the other. Token service charges were defined as charges reasonably related to the value of meals and beverages furnished enroute or charges designed to offset other incidentals or administrative charges, such as those for reservation/ticketing expenses, and were not deemed to constitute remuneration.

Definition of the International Civil Aviation Organization

At the ninth meeting of the ICAO Statistics Division, which was held in Montreal, Canada, on September 26-27, 1997, the following definition of revenue passenger was recommended to the ICAO Council for adoption.

A passenger for whose transportation an air carrier receives commercial remuneration. This includes for example, (1) passengers traveling under publicly available promotional offers (for example two-for-one) or loyalty programs (for example, redemption of frequent flyer points); (2) Passengers traveling as compensation for denied boarding; (3) Passengers traveling at corporate discounts; (4) Passengers traveling on preferential fares (Government, seamen, military, youth student, etc.).

This definition excludes, for example, (1) persons traveling free, except those mentioned above (2) persons traveling at a fare or discount available only to employees of air carriers or their agents or only for travel on the business of the carriers; and (3) infants who do not occupy a seat.

The recommended definition was approved by the ICAO Council at the sixth meeting of the 153 Session. The definition became effective on January 1, 2000.

Revenue Passengers

DOT proposes to revise its definition of revenue passenger to include the ICAO determination that persons receiving transportation as compensation upon filing a complaint or claim against the carrier are revenue passengers. This interpretation includes a passenger receiving free transportation as compensation in compliance with 14 CFR Part 250 Oversales. In such cases, the air carrier incurred a liability when it issued the ticket or voucher.

The following types of passengers would be listed as examples of revenue passengers: (1) Passengers traveling on publicly available tickets; (2) passengers traveling on frequent-flyer awards; (3) passengers traveling on barter tickets; (4) infants traveling on confirmed-space tickets; (5) passengers traveling as compensation for denied boardings or passengers traveling free in response to consumer complaints or claims; and (6) passengers traveling on preferential fares (Government, seamen, military, youth student, etc.). This list is not exhaustive and is provided for illustrative purposes only.

Nonrevenue Passengers

DOT proposes that the following types of passengers would be listed as examples of nonrevenue passengers when traveling free or pursuant to token charges: (1) Directors, officers, employees, and others authorized by the air carrier operating the aircraft; (2) directors, officers, employees, and others authorized by the air carrier or another carrier traveling pursuant to a pass interchange agreement; (3) travel agents being transported for the purpose of familiarizing themselves with the carrier's services; (4) witnesses and attorneys attending any legal investigation in which such carrier is involved; (5) persons injured in aircraft accidents, and physicians, nurses, and others attending such persons; (6) any persons transported with the object of providing relief in cases of general epidemic, natural disaster, or other catastrophe; (7) any law enforcement official, including any person who has the duty of guarding government officials who are traveling on official business; (8) guests of an air carrier on an inaugural flight or delivery flights of newly-acquired or renovated aircraft; (9) security guards who have been assigned the duty to guard such aircraft against unlawful seizure, sabotage, or other unlawful interference; (10) safety inspectors of the National Transportation Safety Board or the FAA in their official duties; (11) postal employees on duty in charge of the mails or traveling to or from such duty; (12) technical representatives of companies that have been engaged in the manufacture, development or testing of a particular type of aircraft or aircraft equipment, when the transportation is provided for the purpose of in-flight observation and subject to applicable FAA regulations; (13) persons engaged in promoting transportation; and (14) other authorized persons, when such transportation is undertaken for promotional purpose. This list is not exhaustive and is provided for illustrative purposes only.

Reporting Burden

DOT believes that this NPRM is not a revision to an information collection for the purposes of the Paperwork Reduction Act. It is not adding or removing any data items. Rather, it is changing definitions to simplify carrier reporting and preclude the need for affected air carriers to maintain two separate systems for identifying revenue and nonrevenue passengers for DOT and ICAO reporting. Under Article 67 of the 1944 Chicago Convention, the United States, as a party to the treaty, is obligated to supply certain individual U.S. air carrier data to ICAO, which is an arm of the United Nations. By harmonizing DOT's definitions of revenue and nonrevenue passenger with ICAO's definitions, DOT will be able to supply ICAO with U.S. air carrier data from DOT's own data base. U.S. carriers will not be required to submit special traffic reports in order to meet this U.S. treaty obligation. Some carriers may, however, have a one-time reprogramming task to treat as revenue passengers those passengers traveling on vouchers or tickets received in response to consumer complaints or as compensation for denied boardings. DOT welcomes comments from any carrier that believes it will experience a reporting burden from this proposal.

Rulemaking Analyses and Notices

Executive Order 12866 and DOT Regulatory Policies and Procedures

DOT does not consider this proposal to be a significant regulatory action under section 3(f) of Executive Order 12866. It was not subject to review by the Office of Management and Budget.

DOT does not consider the proposal to be significant under its regulatory policies and procedures (44 FR 11034; February 26, 1979). The purpose of the rule is to clarify the definitions of revenue passenger and nonrevenue passenger. This action will negate the need for air carriers to keep two sets of traffic records. One set of records for tracking revenue passengers for DOT reporting purposes, and a set of records for ICAO reporting. Therefore, the action will have a positive economic impact on reporting air carriers.

Federalism

DOT analyzed this proposal in accordance with the principles and criteria contained in Executive Order 13132 (“Federalism”) and determined that the rule does not have sufficient federalism implications to warrant consultation with State and local officials.

Regulatory Flexibility Act

We certify this proposed rule will not have a significant economic impact on a substantial number of small entities, as the total cost of the rulemaking is insignificant. There are about 100 small air carriers that may be impacted by this proposed rule. However, the most significant proposed change of the NPRM is the treatment of passengers traveling on a ticket or voucher received as compensation for denied boarding. The denied boarding regulations are not applicable to small air carriers. Therefore, the NPRM should not be a significant impact on small air carriers.

Unfunded Mandates

Under section 201 of the Unfunded Mandates Reform Act (UMRA) (2 U.S.C. 1531), DOT assessed the effects of this proposed rule on State, local and tribal governments, in the aggregate, and the private sector. DOT determined that this regulatory action requires no written statement under section 202 of the UMRA (2 U.S.C. 1532) because it will not result in the expenditure of $100,000,000 in any one year by State, local and tribal governments, in the aggregate, or the private sector.

National Environmental Protection Act

The DOT has analyzed the proposed amendments for the purpose of the National Environmental Protection Act. The proposed amendments will not have any impact on the quality of human environment.

Regulation Identifier Number

A regulation identifier number (RIN) is assigned to each regulatory action listed in the Unified Agenda of Federal Regulations. The Regulatory Information Service Center publishes the Unified Agenda in April and October of each year. The RIN number 2139-AA07 contained in the heading of this document can be used to cross reference this action with the Unified Agenda.

List of Subjects

14 CFR Part 217

Foreign air carriers, Traffic reports.

14 CFR Part 241

Air carriers, Uniform system of accounts, Reporting requirements.

14 CFR Part 298

Air taxis, Reporting requirements.

Proposed Rule

Accordingly, the Bureau of Transportation Statistics proposes to amend 14 CFR parts 217, 241 and 298 as follows:

PART 217—[AMENDED]

1. The authority citation for part 217 continues to read as follows:

Authority: 49 U.S.C. 329 and chapters 401, 413, 417.

2. Definitions for revenue passenger and nonrevenue passenger are added in alphabetical order to § 217.1 to read as follows:

§ 217.1 Definitions.

* * * * *

Nonrevenue passenger means: a person traveling free or under token charges, except those expressly named in the definition of revenue passenger; a person traveling at a fare or discount available only to employees or authorized persons of air carriers or their agents or only for travel on the business of the carriers; and an infant who does not occupy a seat. The following passengers are examples of nonrevenue passengers when traveling free or pursuant to token charges:

(1) Directors, officers, employees, and others authorized by the air carrier operating the aircraft;

(2) Directors, officers, employees, and others authorized by the air carrier or another carrier traveling pursuant to a pass interchange agreement;

(3) Travel agents being transported for the purpose of familiarizing themselves with the carrier's services;

(4) Witnesses and attorneys attending any legal investigation in which such carrier is involved;

(5) Persons injured in aircraft accidents, and physicians, nurses, and others attending such persons;

(6) Any persons transported with the object of providing relief in cases of general epidemic, natural disaster, or other catastrophe;

(7) Any law enforcement official, including any person who has the duty of guarding government officials who are traveling on official business;

(8) Guests of an air carrier on an inaugural flight or delivery flights of newly-acquired or renovated aircraft;

(9) Security guards who have been assigned the duty to guard such aircraft against unlawful seizure, sabotage, or other unlawful interference;

(10) Safety inspectors of the National Transportation Safety Board or the FAA in their official duties;

(11) Postal employees on duty in charge of the mails or traveling to or from such duty;

(12) Technical representatives of companies that have been engaged in the manufacture, development or testing of a particular type of aircraft or aircraft equipment, when the transportation is provided for the purpose of in-flight observation and subject to applicable FAA regulations;

(13) Persons engaged in promoting transportation; and

(14) Other authorized persons, when such transportation is undertaken for promotional purpose.

Revenue passenger means: a passenger for whose transportation an air carrier receives commercial remuneration. This includes for example:

(1) Passengers traveling under publicly available tickets including promotional offers (for example two-for-one) or loyalty programs (for example, redemption of frequent flyer points);

(2) Passengers traveling on vouchers or tickets issued as compensation for denied boarding or in response to consumer complaints or claims;

(3) Passengers traveling at corporate discounts;

(4) Passengers traveling on preferential fares (Government, seamen, military, youth student, etc.);

(5) Passengers traveling on barter tickets; and

(6) Infants traveling on confirmed-space tickets.

* * * * *

PART 241—[AMENDED]

3. The authority citation for part 241 continues to read as follows:

Authority: 49 U.S.C. 329 and chapters 401, 411, 417.

4. The definitions in part 241 section 03 for nonrevenue passenger and revenue passenger are amended to read as follows:

03—Definitions for the Purposes of This System of Accounts and Reports

* * * * *

Nonrevenue passenger means: a person traveling free or under token charges, except those expressly named in the definition of revenue passenger; a person traveling at a fare or discount available only to employees or authorized persons of air carriers or their agents or only for travel on the business of the carriers; and an infant who does not occupy a seat. The following passengers are examples of nonrevenue passengers when traveling free or pursuant to token charges:

(1) Directors, officers, employees, and others authorized by the air carrier operating the aircraft;

(2) Directors, officers, employees, and others authorized by the air carrier or another carrier traveling pursuant to a pass interchange agreement;

(3) Travel agents being transported for the purpose of familiarizing themselves with the carrier's services;

(4) Witnesses and attorneys attending any legal investigation in which such carrier is involved;

(5) Persons injured in aircraft accidents, and physicians, nurses, and others attending such persons;

(6) Any persons transported with the object of providing relief in cases of general epidemic, natural disaster, or other catastrophe;

(7) Any law enforcement official, including any person who has the duty of guarding government officials who are traveling on official business;

(8) Guests of an air carrier on an inaugural flight or delivery flights of newly-acquired or renovated aircraft;

(9) Security guards who have been assigned the duty to guard such aircraft against unlawful seizure, sabotage, or other unlawful interference;

(10) Safety inspectors of the National Transportation Safety Board or the FAA in their official duties;

(11) Postal employees on duty in charge of the mails or traveling to or from such duty;

(12) Technical representatives of companies that have been engaged in the manufacture, development or testing of a particular type of aircraft or aircraft equipment, when the transportation is provided for the purpose of in-flight observation and subject to applicable FAA regulations;

(13) Persons engaged in promoting transportation; and

(14) Other authorized persons, when such transportation is undertaken for promotional purpose.

* * * * *

Revenue passenger means a passenger for whose transportation an air carrier receives commercial remuneration. This includes for example:

(1) Passengers traveling under publicly available tickets including promotional offers (for example two-for-one) or loyalty programs (for example, redemption of frequent flyer points);

(2) Passengers traveling on vouchers or tickets issued as compensation for denied boarding or in response to consumer complaints or claims;

(3) Passengers traveling at corporate discounts;

(4) Passengers traveling on preferential fares (Government, seamen, military, youth student, etc.);

(5) Passengers traveling on barter tickets; and

(6) Infants traveling on confirmed-space tickets.

PART 298—[AMENDED]

5. The authority citation for part 298 continues to read as follows:

Authority: 49 U.S.C. chapters 401, 411, 417.

6. The paragraph designations are removed and definitions for Nonrevenue passenger and Revenue passenger are added in alphabetical order to § 298.2 to read as follows:

§ 298.2 Definitions.

* * * * *

Nonrevenue passenger means a person traveling free or under token charges, except those expressly named in the definition of revenue passenger; a person traveling at a fare or discount available only to employees or authorized persons of air carriers or their agents or only for travel on the business of the carriers; and an infant who does not occupy a seat. The following passengers are examples of nonrevenue passengers when traveling free or pursuant to token charges:

(1) Directors, officers, employees, and others authorized by the air carrier operating the aircraft;

(2) Directors, officers, employees, and others authorized by the air carrier or another carrier traveling pursuant to a pass interchange agreement;

(3) Travel agents being transported for the purpose of familiarizing themselves with the carrier's services;

(4) Witnesses and attorneys attending any legal investigation in which such carrier is involved;

(5) Persons injured in aircraft accidents, and physicians, nurses, and others attending such persons;

(6) Any persons transported with the object of providing relief in cases of general epidemic, natural disaster, or other catastrophe;

(7) Any law enforcement official, including any person who has the duty of guarding government officials who are traveling on official business;

(8) Guests of an air carrier on an inaugural flight or delivery flights of newly-acquired or renovated aircraft;

(9) Security guards who have been assigned the duty to guard such aircraft against unlawful seizure, sabotage, or other unlawful interference;

(10) Safety inspectors of the National Transportation Safety Board or the FAA in their official duties;

(11) Postal employees on duty in charge of the mails or traveling to or from such duty;

(12) Technical representatives of companies that have been engaged in the manufacture, development or testing of a particular type of aircraft or aircraft equipment, when the transportation is provided for the purpose of in-flight observation and subject to applicable FAA regulations;

(13) Persons engaged in promoting transportation; and

(14) Other authorized persons, when such transportation is undertaken for promotional purpose.

* * * * *

Revenue passenger means a passenger for whose transportation an air carrier receives commercial remuneration. This includes for example:

(1) Passengers traveling under publicly available tickets including promotional offers (for example two-for-one) or loyalty programs (for example, redemption of frequent flyer points);

(2) Passengers traveling on vouchers or tickets issued as compensation for denied boarding or in response to consumer complaints or claims;

(3) Passengers traveling at corporate discounts;

(4) Passengers traveling on preferential fares (Government, seamen, military, youth student, etc.);

(5) Passengers traveling on barter tickets; and

(6) Infants traveling on confirmed-space tickets.

* * * * *

Issued in Washington, DC on August 16, 2000.
Susan McDermott,
Deputy Assistant Secretary for Aviation and International Affairs.
Donald W. Bright,
Acting Director, Office of Airline Information.

[FR Doc. 00-21313 Filed 8-21-00; 8:45 am]

BILLING CODE 4910-62-P